DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomic Research and Monitoring Program for the Florida Keys National Marine Sanctuary: Recreation/Tourism in the Florida Keys—A Ten-year Replication.

Form Number(s): None.

OMB Approval Number: 0648-xxxx.

Type of Request: Regular submission.

Burden Hours: 10,539.

Number of Respondents: 15,686.

Average Hours Per Response: Auto, air and cruise ship visitors: On-site survey, 4 minutes; mail-back surveys, 15 minutes; other visitor surveys: On-site: 15 minutes; mail-back surveys, 20 minutes; resident mail survey, 1 hour; and supply-side surveys, 5 minutes.

Needs and Uses: This is an approximate ten-year replication of the study “Linking the Economy and Environment of the Florida Keys/Florida Bay” which established baseline measurements for recreation/tourist uses of the Florida Keys National Marine Sanctuary (FKNMS). The baseline measurements were taken in 1995-96 for the broader recreation/tourist uses, while for reef use the baseline measurements were taken in 2000-2001. Baseline measurements were taken on number of users and recreation/tourist uses of the Florida Keys, along with estimates of economic value of resource use, economic impact associated with these uses on the local and regional economies, importance/satisfaction ratings for 25 natural resource attributes, facilities and services, and demographic profiles of users. This application also includes establishment of new baselines for knowledge, attitudes and perceptions of Sanctuary management strategies and regulations for recreation/tourist user groups, adds evaluations of management alternatives for coral reefs, and adds information that will support better predictions of how users will respond to management/regulations.

Affected Public: Business or other for-profit organizations; individuals or households.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 22, 2007.
Gwellnar Banks,
Management Analyst, Office of the Chief Information Officer.

[FR Doc. E7-3429 Filed 2-27-07; 8:45 am]

BILLING CODE 3510-NK-P